EXPORT-IMPORT BANK OF THE U.S.

[Public Notice 2010-0060]

Agency Information Collection Activities: Comment Request

AGENCY: Export-Import Bank of the U.S.

ACTION: Submission for OMB review and comments request.

Form Title: Broker Registration Form, EIB 92-79.

SUMMARY: The Export-Import Bank of the United States (Ex-Im Bank), as a part of its continuing effort to reduce paperwork and respondent burden, invites the general public and other Federal Agencies to comment on the proposed information collection, as required by the Paperwork Reduction Act of 1995. Our customers will be able to submit this form on paper or electronically.

This application is used by insurance brokers to register with Export Import Bank. The application provides Export Import Bank staff with the information necessary to make a determination of the eligibility of the broker to receive commission payments under Export Import Bank's credit insurance programs.

DATES: Comments should be received on or before January 3, 2011 to be assured of consideration.

ADDRESSES: Comments maybe submitted through http://www.Regulations.Gov or mailed to to Office of Information and Regulatory Affairs, 725 17th Street, NW., Washington, DC 20038 attn: OMB 3048-0024.

SUPPLEMENTARY INFORMATION: Titles and Form Number: EIB 92-79 Broker Registration Form.

OMB Number: 3048-0024

Type of Review: Regular

Need and Use: This application is used by insurance brokers to register with Export Import Bank. The application provides Export Import Bank staff with the information necessary to make a determination of the eligibility of the broker to receive commission payments under Export Import Bank's credit insurance programs.

Affected Public: This form affects entities involved in the export of U.S. goods and services.

Annual Number of Respondents: 50.

Estimated Time per Respondent: 100 hours.

Government Annual Burden Hours: 200 hours.

Frequency of Reporting or Use: Once.

Sharon A. Whitt,
Agency Clearance Officer.

[FR Doc. 2010-30207 Filed 11-30-10; 8:45 am]

BILLING CODE 6690-01-P